DEPARTMENT OF COMMERCE

Submission for OMB Review; Comment Request

The Department of Commerce will submit to the Office of Management and Budget (OMB) for clearance the following proposal for collection of information under the provisions of the Paperwork Reduction Act.

Agency: U.S. Census Bureau.

Title: Longitudinal Employer-Household Dynamics (LEHD).

OMB Control Number: 0607-XXXX.

Form Number(s): Not applicable as survey forms are not required to collect this data.

Type of Request: Regular Submission.

Number of Respondents: 52 state agency respondents per quarter (i.e., 49 state, Virgin Islands, Puerto Rico, and the District of Columbia).

Average Hours Per Response: 8 hours to identify and submit data.

Burden Hours: Approximately 1,664 total hours annually.

Needs and Uses: The data products developed by the LEHD program provide statistics on employment, earnings, and job flows at detailed levels of geography and industry and for different demographic groups. The potential and realized uses of these data products and their supporting dissemination tools are far-reaching, both for unraveling many important questions in economic research and for the provision of new statistical products. Over the first five months of 2017, the Census Bureau received more than 105,000 visits to its LEHD dissemination tools. Just some examples of novel use of LEHD data include:

• The New Jersey State Data Center used OnTheMap for Emergency Management to quickly learn the impact of hurricane Sandy with regards to identification of Federal Disaster Declaration Areas and its effects on communities (i.e., population and workforce).

• The state of Nevada has used the Job-to-Job Flows data product to understand the migration of its workforce that supports the hotel industry.

• The Philadelphia Center City District used LEHD data to understand the details of the area's workforce and economy in order to monitor the effectiveness of economic programs and policy initiatives.

Additional examples of how the LEHD data products and supporting dissemination tools have been used can be found at the LEHD Web site: https://lehd.ces.census.gov/led_in_action/.

Affected Public: There is no burden on the public to provide the required data because the LEHD program relies on administrative data provided by state agencies. The number of responses and burden hours have been updated from the pre-submission notice that was published on December 8, 2016, document citation: 81 FR 88662. The previous number of responses was noted at 52 per quarter, however, that number did not account for the annual responses which will be 208. The burden hours were clarified to only include state agency burden hours—resulting in a total of 1,664 annual burden hours.

Frequency: Quarterly.

Respondent's Obligation: Voluntary via a Memorandum of Understanding (MOU).

Legal Authority: The authority to conduct the LEHD program is 13 U.S.C. Section 6. Confidentiality of all collected data is assured by 13 U.S.C. Section 9.

This information collection request may be viewed at www.reginfo.gov. Follow the instructions to view Department of Commerce collections currently under review by OMB.

Written comments and recommendations for the proposed information collection should be sent within 30 days of publication of this notice to OIRA_Submission@omb.eop.gov or fax to (202)395-5806.

Sheleen Dumas,
Departmental PRA Lead, Office of the Chief Information Officer.

[FR Doc. 2017-21082 Filed 9-29-17; 8:45 am]

BILLING CODE 3510-07-P